DEPARTMENT OF AGRICULTURE

Forest Service

Caribou-Targhee National Forest, Idaho; Big Bend Ridge Vegetation Management Project and Timber Sale Supplemental Environmental Impact Statement and Proposed Targhee Forest Plan Amendment

AGENCY: Forest Service, USDA.

ACTION: Cancellation of notice of intent to prepare a supplemental environmental impact statement that was published on May 30, 2007, on page 29948 of the Federal Register.

SUMMARY: After review of the proposal and public comments on the project the Caribou-Targhee National Forest has decided not to prepare a Supplemental Environmental Impact Statement for the Big Bend Ridge Vegetation Management Project and Timber Sale and the associated Targhee Forest Plan amendment at this time. The Forest will propose to amend the Targhee Revised Forest Plan under a separate proposal in the near future.

DATES: Effective cancellation of this project upon the date of publication of this notice in the Federal Register.

FOR FURTHER INFORMATION CONTACT: Robbin Redman at the Caribou-Targhee National Forest at 1405 Hollipark Drive, Idaho Falls, ID 83401 or via telephone at (208) 557-5821.

Dated: February 20, 2008.
Larry Timchak,
Forest Supervisor.

[FR Doc. 08-862 Filed 2-27-08; 8:45 am]

BILLING CODE 3410-11-M